DEPARTMENT OF HOMELAND SECURITY

Office of the Secretary

Privacy Act of 1974; System of Records

AGENCY: Privacy Office, DHS.

ACTION: Notice of removal of one Privacy Act system of records notice.

SUMMARY: In accordance with the Privacy Act of 1974, the Department of Homeland Security is giving notice that it will remove five system of records notices from its inventory of record systems because the United States Coast Guard no longer requires the systems. The five obsolete systems are: DOT/CG 503 Motorboat Registration, April 11, 2000, DOT/CG 509 Non-Judicial Punishment Record, April 11, 2000, DOT/CG 526 Adjudication and Settlement of Claims System, April 11, 2000, DOT/CG 633 Coast Guard Civilian Personnel Security Program, April 11, 2000, and DOT/CG 676 Official Coast Guard Reserve Service Record, April 11, 2000.

DATES: Effective Date: November 6, 2008.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing five United States Coast Guard (USCG) system of records notice from its inventory of record systems.

DHS inherited these record systems upon its creation in January of 2003. Upon review of its inventory of systems of records, DHS has determined it no longer needs or uses these system of records and is retiring the following: DOT/CG 503 Motorboat Registration (65 FR 19475 April 11, 2000), DOT/CG 509 Non-Judicial Punishment Record (65 FR 19475 April 11, 2000), DOT/CG 526 Adjudication and Settlement of Claims System (65 FR 19475 April 11, 2000), DOT/CG 633 Coast Guard Civilian Personnel Security Program (65 FR 19475 April 11, 2000), and DOT/CG 676 Official Coast Guard Reserve Service Record (65 FR 19475 April 11, 2000).

DOT/CG 503 Motorboat Registration was originally established to manage the USCG boating safety program.

DOT/CG 509 Non-Judicial Punishment Record was originally established to administer military justice.

DOT/CG 526 Adjudication and Settlement of Claims System was originally established to determine the entitlement of claimants who submit claims to the USCG.

DOT/CG 633 Coast Guard Civilian Personnel Security Program was originally established to determine eligibility for access to classified information under Executive Order 11652.

DOT/CG 676 Official Coast Guard Reserve Service Record was originally established to ensure fulfillment of normal administrative personnel procedures, including examining and screening for completeness and accuracy of records correspondence.

Eliminating these systems of records notices will have no adverse impacts on individuals, but will promote the overall streamlining and management of DHS Privacy Act record systems.

Dated: September 30, 2008.
Hugo Teufel III,
Chief Privacy Officer, Department of Homeland Security.

[FR Doc. E8-23751 Filed 10-6-08; 8:45 am]

BILLING CODE 4410-10-P